DEPARTMENT OF COMMERCE

National Institute of Standards and Technology

[Docket No.: 070320063-7064-01]

Advanced Technology Program Notice of Availability of Funds and Announcement of Public Meetings (Proposers' Conferences)

AGENCY: National Institute of Standards and Technology (NIST), Department of Commerce.

ACTION: Notice.

SUMMARY: NIST's Advanced Technology Program (ATP) announces that it will hold a single fiscal year 2007 ATP competition and is soliciting proposals for financial assistance. ATP also announces that it will hold public meetings (Proposers' Conferences) for all interested parties. ATP is soliciting proposals in all technology areas (Competition Number 2007-A) as well as the following four broad Crosscutting Areas of National Interest: (1) Technologies for Advanced and Complex Systems (Competition Number 2007-B), (2) Challenges in Advanced Materials and Devices (Competition Number 2007-C), (3) 21st Century Manufacturing (Competition Number 2007-D), and (4) Nanotechnology (Competition Number 2007-E). Details regarding these four broad Crosscutting Areas of National Interest are included in the Federal Funding Opportunity announcement available at http://www.grants.gov. ATP provides cost-shared multi-year funding to single companies and to industry-led joint ventures to accelerate the development and dissemination of challenging, high risk technologies with the potential for significant commercial payoffs and widespread benefits for the nation. This unique government-industry partnership aids companies in accelerating the development of emerging or enabling technologies that lead to revolutionary new products and industrial processes and services that can compete in rapidly changing world markets. ATP challenges the research and development (R&D) community to take on higher technical risk with commensurately higher potential payoffs for the nation than they would otherwise pursue.

DATES: The due date for submission of all proposals is 3 p.m. Eastern Time, Monday, May 21, 2007. This deadline applies to any mode of proposal submission, including hand-delivery, courier, express mailing, and electronic. Do not wait until the last minute to submit a proposal. ATP will not make any allowances for late submissions, including incomplete Grants.gov registration.

ADDRESSES: Proposals must be submitted to ATP as follows:

Paper submission: Send to National Institute of Standards and Technology, Advanced Technology Program, 100 Bureau Drive, Stop 4701, Gaithersburg, MD 20899-4701.

Electronic submission: http://www.grants.gov.

FOR FURTHER INFORMATION CONTACT: Barbara Lambis at 301-975-4447 or by e-mail at barbara.lambis@nist.gov.

SUPPLEMENTARY INFORMATION: Additional Information: The full Federal Funding Opportunity (FFO) announcement for this request for proposals is available at http://www.grants.gov. The full FFO announcement text can also be accessed on the ATP Web site at http://www.atp.nist.gov/atp/helpful.htm. To request a copy of the April 2007 ATP Proposal Preparation Kit submit an electronic request at http://www.atp.nist.gov/atp/atpform.htm or call ATP at 1-800-ATP-FUND (1-800-287-3863). The Kit is also available at http://www.atp.nist.gov/atp/helpful.htm. Note that ATP is mailing the Kit to all individuals whose names are currently on the ATP mailing list. Those individuals need not contact ATP to request a copy.

Meetings: ATP is holding several public meetings (Proposers' Conferences) at several locations around the country. These public meetings provide general information regarding the program, tips on preparing proposals, and the opportunity for questions and answers. Proprietary technical or business discussions about specific project ideas with NIST staff are not permitted at these conferences or at any time before submitting the proposal to ATP. Therefore, you should not expect to have proprietary issues addressed at proposers' conferences. NIST/ATP staff will not critique proprietary project ideas while they are being developed by a proposer. However, NIST/ATP staff will, at any time, answer questions that you may have about our project selection criteria, selection process, eligibility requirements, cost-sharing requirements, and the general characteristics of a competitive ATP proposal.

ATP Proposers' Conferences are being held from 9 a.m.-12:30 p.m. local time on the following dates and locations:

April 13, 2007: NIST Red Auditorium, 100 Bureau Drive, Gaithersburg, MD (301-975-2776)

April 16, 2007: Hyatt Regency Dearborn Fairlane Town Center, Dearborn, Detroit, MI (313-593-1234)

April 18, 2007: Hyatt Harborside at Boston's Logan International Airport, 101 Harborside Drive, Boston, MA (617-568-1234)

April 18, 2007: Los Angeles Airport Marriott, 5855 West Century Blvd., Los Angeles, CA (310-641-5700)

April 20, 2007: Hilton Austin Airport, 9515 Hotel Drive, Austin, TX (512-385-6767)

No registration fee will be charged. Presentation materials from proposers' conferences will be made available on the ATP Web site.

Pre-Registration Required By April 9, 2007 for All Proposers' Conferences as Follows

NIST Gaithersburg Conference: Due to increased security at NIST, NO on-site registrations will be accepted and all attendees MUST be pre-registered. Photo identification must be presented at the NIST main gate to be admitted to the April 13, 2007 conference. Attendees must wear their conference badge at all times while on the NIST campus. Same day registration will be allowed at the other locations.

Electronic Registration: At https://rproxy.nist.gov/CRS/. Please select the ATP Proposers' Conference and appropriate data to register for the meeting of your choice.

Telephone Registration: Call 301-975-2776.

Fax Registration: Provide the following and fax to 301-948-2067: last name, first name; title; organization; room or mail code, city, state, zip code, country; telephone; facsimile; e-mail; any special needs; and the meeting date and location.

Funding Availability: Fiscal year 2007 appropriations include funds in the amount of approximately $60 million for new ATP awards. Approximately 60 awards are anticipated.

Statutory Authority: 15 U.S.C. 278n.

CFDA: 11.612, Advanced Technology Program (ATP).

Eligibility: U.S.-owned, single, for-profit companies and industry-led joint ventures may apply for ATP funding. In addition, companies incorporated in the United States that have parent companies incorporated in another country may apply. The term company means a for-profit organization, including sole proprietorships, partnerships, limited-liability companies (LLCs), and corporations (15 CFR 295.2).

Cost Sharing Requirements: Small (as defined at 15 CFR 295.2) and medium sized companies applying as single-company proposers are not required to provide cost sharing of direct costs; however, they may propose to pay a portion of the direct costs in addition to all indirect costs throughout the project. Large companies applying as single-company proposers must cost share at least 60 percent of the yearly total project costs (direct plus all of the indirect costs). A large company is defined as any business, including any parent company plus related subsidiaries, having annual revenues in excess of $3.960 billion. (Note that this number will likely be updated annually and will be noted in future annual announcements of availability of funds and revised editions of the ATP Proposal Preparation Kit.) Joint ventures must cost share more than 50 percent of the yearly total project costs (direct plus indirect costs).

Selection Procedures: All proposals are selected based on a multi-stage peer-review process, as described in 15 CFR 295.4. All proposals are carefully reviewed by technical and business experts against the established ATP evaluation/selection criteria. A Source Evaluation Board (SEB) (a committee made up of nine Federal employees) reviews proposals and makes recommendations for funding to a Selecting Official based on the technical and business evaluations and the selection criteria. The SEB ratings shall provide a rank order to the Selecting Official for final recommendation to the NIST Grants Officer. NIST/ATP reserves the right to negotiate the cost and scope of the proposed work with the proposers who have been selected to receive awards. For example, NIST/ATP may require that the proposer delete from the scope of work a particular task that is deemed by NIST/ATP to be product development or otherwise inappropriate for ATP support. All funding decisions are final and cannot be appealed.

Evaluation Criteria: The evaluation criteria used to select a proposal for funding and their respective weights are found in 15 CFR 295.6.

Selection Factors: The Selecting Official shall recommend for award in rank order unless a proposal is justified to be selected out of rank order based upon the availability of funds, the adherence to ATP selection criteria, or the appropriate distribution of funds among technologies and their applications. NIST reserves the right to deny awards in any case where NIST determines that a reasonable doubt exists regarding a proposer's ability to comply with ATP requirements or to handle Federal funds responsibly.

Ineligible Projects

a. Straightforward improvements of existing products or product development.

b. Projects that are basic research.

c. Projects that are Phase II, III, or IV clinical trials. ATP rarely funds Phase I clinical trials and reserves the right not to fund a Phase I clinical trial. The portion of a Phase I trial that may be funded must be critical to meeting the scientific and technological merit selection criterion and the trial must be essential for completion of the study. The definitions of all phases of clinical trials are provided in the ATP Guidelines and Documentation Requirements for Research Involving Human & Animal Subjects located at http://www.atp.nist.gov/atp/helpful.htm.

d. Pre-commercial-scale demonstration projects where the emphasis is on demonstrating that some technology works on a large scale or is economically sound rather than on R&D that advances the state of the art.

e. Projects that ATP believes would likely be completed without ATP funds in the same time frame or nearly the same time frame, or with the same scale or scope.

f. Predominantly straightforward, routine data gathering (e.g., creation of voluntary consensus standards, data gathering/handbook preparation, testing of materials, or unbounded research aimed at basic discovery science) or application of standard engineering practices.

g. Projects that are simply a follow-on or a continuation of tasks previously funded in ATP projects from essentially the same proposing team.

h. Projects in which the only risk is market oriented—that is, the risk that the end product may not be embraced by the marketplace.

i. Projects with software work, that are predominantly about final product details and product development, and that have significant testing that involve users outside the research team to determine if the software meets the original research objectives, are likely to be either uncompetitive or possibly ineligible for funding. However, R&D projects with limited software testing, involving users outside of the research team, may be considered eligible costs within an ATP award when the testing is critical to meeting the scientific and technological merit selection criterion and the testing is essential for completion of the proposed research. These types of projects may also be considered to involve human subjects in research.

Unallowable/Ineligible Costs. The following items, regardless of whether they are allowable under the federal cost principles, are unallowable under ATP:

a. Bid and proposal costs unless they are incorporated into a federally approved indirect cost rate.

b. Construction costs for new buildings or extensive renovations of existing laboratory buildings. However, costs for the construction of experimental research and development facilities to be located within a new or existing building are allowable provided that the equipment or facilities are essential for carrying out the proposed scientific and technical project and are approved by the NIST Grants Officer.

c. For research involving human and/or animal subjects, any costs used to secure Institutional Review Board or Institutional Animal Care and Use Committee approvals before the award or during the award.

d. General purpose office equipment and supplies that are not used exclusively for the research, e.g., office computers, printers, copiers, paper, pens, and toner cartridges.

e. Indirect costs for single-company recipients, which must be absorbed by the company. (Note that with large businesses submitting proposals as single-company proposers, indirect costs absorbed by the large business may be used to meet the cost-sharing requirement.)

f. Marketing, sales, or commercialization costs, including marketing surveys, commercialization studies, and general business planning, unless they are included in a federally approved indirect cost rate.

g. Office furniture costs, unless they are included in a federally approved indirect cost rate.

h. Patent costs and legal fees, unless they are included in a federally approved indirect cost rate.

i. Preaward costs.

j. Profit, management fees, interest on borrowed funds, or facilities capital cost of money.

k. Relocation costs, unless they are included in a federally approved indirect cost rate.

l. Subcontractor expenses such as those for office supplies and conferences/workshops.

m. Subcontracts to another part of the same company or to another company with identical or nearly identical ownership. Work proposed by another part of the same company or by another company with identical or nearly identical ownership should be shown as funded through interorganizational transfers that do not contain profit. Interorganizational transfers should be broken down in the appropriate budget categories.

n. Tuition costs. However, a university participating in an ATP project as a subcontractor or as a joint venture partner may charge ATP for tuition remission or other forms of compensation in lieu of wages paid to university students working on ATP projects but only as provided in OMB Circular A-21, Section J.41. In such cases, tuition remission would be considered a cash contribution rather than an in-kind contribution.

Intellectual Property Requirements: Title to any inventions arising from an ATP-funded project must be held by a for-profit company, or companies, incorporated or organized in the United States. A university, government laboratory, independent research organization, or other nonprofit organization cannot retain title to patents, although such organizations can receive mutually agreeable payments (either one-time or continuing) from the company or companies holding title to the patent. However, a for-profit corporation organized by a university can be considered a for-profit company for the purpose of retaining title to patents arising from an ATP award. In such a case, documentation of the for-profit status must be provided in the proposal. If your organization is not a for-profit company but plans to be involved in an ATP project, you will not be able to retain title to any patentable inventions arising from the ATP project. Please make sure your legal department is aware that ATP cannot waive this mandated provision (15 U.S.C. 278n(d)(11)(A) and 15 CFR 295.2 and 295.8). Title to any such invention shall not be transferred or passed, except to a for-profit company organized in the United States, until the expiration of the first patent obtained in connection with such invention.

The United States reserves a nonexclusive, nontransferable, irrevocable, paid-up license to practice or have practiced for or on behalf of the United States any patentable invention arising from an ATP award. The federal government shall not, however, in the exercise of such license, publicly disclose proprietary information related to the license. The federal government also has march-in rights in accordance with 15 CFR 295.8. Since its inception in 1990, ATP has not exercised its march-in rights nor has it used its nontransferable, irrevocable, paid-up license.

Projects Involving Human Subjects: Research involving human subjects must be in compliance with applicable Federal regulations and NIST policies for the protection of human subjects. Human subjects research involves interactions with live human subjects or the use of data, images, tissue, and/or cells/cell lines (including those used for control purposes) from human subjects. Research involving human subjects may include activities such as the use of image and/or audio recording of people, taking surveys or using survey data, using databases containing personal information, testing software with volunteers, and many tasks beyond those within traditional biomedical research. A Human Subjects Determination Checklist is included in the April 2007 ATP Proposal Preparation Kit as Exhibit 2 (http://www.atp.nist.gov/atp/helpful.htm) to assist you in determining whether your proposal has human subjects involvement, which would require additional documents with your proposal. Detailed information regarding the use of human subjects in research projects and required documentation is available in the ATP Guidelines and Documentation Requirements for Research Involving Human & Animal Subjects located at http://www.atp.nist.gov/atp/helpful.htm or by calling 1-800-287-3863.

Projects Involving Animal Subjects: Research involving animal subjects must be in compliance with applicable federal regulations and NIST policies for the protection of animal subjects. Vertebrate animal research involves live animals that are being cared for, euthanized, or used by the project participants to accomplish research goals or for teaching or testing. The regulations do not apply to animal tissues purchased from commercial processors or tissue banks or to uses of preexisting images of animals (e.g., a wildlife documentary or pictures of animals in newscasts). The regulations do apply to any animals that are housed and cared for by a project participant and used for custom collection of biological samples or observation data of health and behavior. Detailed information regarding the use of animal subjects in research projects and required documentation is available in the ATP Guidelines and Documentation Requirements for Research Involving Human & Animal Subjects located at http://www.atp.nist.gov/atp/helpful.htm or by calling 1-800-287-3863.

Administrative and National Policy Requirements: The Department of Commerce Pre-Award Notification Requirements for Grants and Cooperative Agreements: The Department of Commerce Pre-Award Notification Requirements for Grants and Cooperative Agreements contained in the Federal Register notice of December 30, 2004 (69 FR 78389) is applicable to this announcement. On the form SF-424 (R&R), the applicant's 9-digit Dun and Bradstreet Data Universal Numbering System (DUNS) number must be entered in the Organizational DUNS line.

Paperwork Reduction Act: This notice contains collection of information requirements subject to the Paperwork Reduction Act (PRA). The use of Forms NIST-1262 and NIST-1263, SF-424 (R&R), Research and Related Other Project Information, SF-424B, SF-LLL, CD-346, and Budget Narrative form has been approved by OMB under the respective control numbers 0693-0009, 4040-0001, 4040-0001, 4040-0007, 0348-0046, 0605-0001, and 0693-0009. Notwithstanding any other provision of the law, no person is required to respond to, nor shall any person be subject to a penalty for failure to comply with, a collection of information, subject to the requirements of the PRA, unless that collection of information displays a currently valid OMB Control Number.

Executive Order 12866: This notice has been determined to be not significant for purposes of Executive Order 12866.

Executive Order 12372 (Intergovernmental Review of Federal Programs): ATP does not involve the mandatory payment of any matching funds from state or local government and does not affect directly any state or local government. Accordingly, the Department of Commerce has determined that Executive Order 12372 is not applicable to this program.

Executive Order 13132 (Federalism): It has been determined that this notice does not contain policies with Federalism implications as that term is defined in Executive Order 13132.

Administrative Procedure Act/Regulatory Flexibility Act: Notice and comment are not required under the Administrative Procedure Act (5 U.S.C. 553) or any other law, for notices relating to public property, loans, grants, benefits or contracts (5 U.S.C. 553(a)). Because notice and comment are not required under the Administrative Procedure Act, a Regulatory Flexibility Analysis is not required and has not been prepared for this notice, 5 U.S.C. 601 et seq.

Dated: April 3, 2007.
William Jeffrey,
Director, NIST.

[FR Doc. E7-6650 Filed 4-9-07; 8:45 am]

BILLING CODE 3510-13-P